DEPARTMENT OF STATE

22 CFR Part 171

[Public Notice 7710]

Privacy Act; Notice of Proposed Rulemaking: State-78, Risk Analysis and Management Records

SUMMARY: Notice is hereby given that the Department of State proposes to amend its Privacy Act regulation exempting portions of a newly created system of records from certain provisions of the Privacy Act of 1974, as amended (5 U.S.C. 552a). Certain portions of the Risk Analysis and Management (RAM) Records, State-78, system of records contain criminal investigation records, investigatory material for law enforcement purposes, confidential source information and are proposed to be exempted under 5 U.S.C. 552a(j)(2), (k)(1), (k)(2), and (k)(5).

DATES: Comments on this system of records must be submitted by January 17, 2012.

ADDRESSES: Any persons interested in commenting on the proposed exemptions of the new system of records may do so by writing to the Director; Office of Information Programs and Services, A/GIS/IPS; Department of State, SA-2; 515 22nd Street NW.; Washington, DC 20522-8001.

FOR FURTHER INFORMATION CONTACT: Director; Office of Information Programs and Services, A/GIS/IPS; Department of State, SA-2; 515 22nd Street NW.; Washington, DC 20522-8001.

SUPPLEMENTARY INFORMATION: A notice of proposal to create a new system of records (Public Notice XXXX) is published elsewhere in the Federal Register. The proposed system, Risk Analysis and Management (RAM) Records, State-78, will support the vetting of directors, officers, or other employees of organizations who apply for Department of State contracts, grants, cooperative agreements, or other funding. The information collected from these organizations and individuals is specifically used to conduct screening to ensure that Department funds are not used to provide support to entities or individuals deemed to be a risk to U.S. national security interests. The records may contain criminal investigation records, investigatory material for law enforcement purposes, and confidential source information.

The Department of State proposes to amend 22 CFR part 171 to exempt portions of the Risk Analysis and Management Records system of records from subsections (c)(3) and (4), (d), (e)(1), (2), and (3), (e)(4)(G), (H), and (I), (e)(5) and (8), (f), (g), and (h) of the Privacy Act of 1974, as amended (5 U.S.C. 552a), pursuant to 5 U.S.C. 552 a (j)(2) and from subsections (c)(3),(d), (e)(1), (e)(4)(G), (H), and (I), and (f) of the Privacy Act pursuant to 5 U.S.C. 552a (k)(1), (k)(2), and (k)(5).

Dated: November 16, 2011.
Keith D. Miller,
Director, Office of Operations, Bureau of Administration, U.S. Department of State.

List of Subjects in 22 CFR Part 171:

Privacy.

Title 22, part 171 covering certain records in State-78 is proposed to be amended as follows:

PART 171—[AMENDED]

1. The authority citation for part 171 continues to read as follows:

Authority: 22 U.S.C. 552, 552a; Ethics in Government Act of 1978, Pub. L. 95-521, 92 Stat. 1824, as amended; E.O. 12958, as amended, 60 FR 19825, 3 CFR, 1995 Comp., p. 333; E.O. 12600, 52 FR 23781, 3 CFR, 1987 Comp., p. 235.

2. Section § 171.36 is amended by adding the following exemptions to paragraphs (a)(2), (b)(1), (b)(2), and (b)(5) to read as follows:

§ 171.36 Exemptions [Amended]

* * * * *

(a) * * *

(2) * * *

Risk Analysis and Management Records, STATE-78.

* * * * *

(b) * * *

(1) * * *

Risk Analysis and Management Records, STATE-78.

* * * * *

(b) * * *

(2) * * *

Risk Analysis and Management Records, STATE-78.

* * * * *

(b) * * *

(5) * * *

Risk Analysis and Management Records, STATE-78.

[FR Doc. 2011-31267 Filed 12-5-11; 8:45 am]

BILLING CODE 4710-24-P